DEPARTMENT OF HEALTH AND HUMAN SERVICES

National Institutes of Health

Center for Scientific Review; Amended Notice of Meeting

Notice is hereby given of a change in the meeting of the Center for Scientific Review Special Emphasis Panel, October 08, 2013, 01:00 p.m. to October 08, 2013, 02:30 p.m., National Institutes of Health, 6701 Rockledge Drive, Bethesda, MD 20892, which was published in the Federal Register on October 01, 2013, 78 FR 190 Pgs. 60294-60296.

The meeting will start on December 2, 2013 at 1:00 p.m. and end December 2, 2013 at 2:30 p.m. The meeting location remains the same. The meeting is closed to the public.

Dated: October 29, 2013.
Michelle Trout,
Program Analyst, Office of Federal Advisory Committee Policy.

[FR Doc. 2013-26233 Filed 11-1-13; 8:45 am]

BILLING CODE 4140-01-P